DEPARTMENT OF JUSTICE

Notice of Lodging of Proposed Consent Decree Under the Comprehensive Environmental Response, Compensation, and Liability Act of 1980

On November 27, 2012, the Department of Justice lodged a proposed Consent Decree with the United States District Court for the Northern District of Illinois in the lawsuit entitled United States v. Capital Tax Corporation, et al., Civil Action No. 04-cv-4138.

In the original complaint filed under the Comprehensive Environmental Response, Compensation and Liability Act (CERCLA) in 2004 and amended complaints filed in 2005 and 2010, the United States sought reimbursement of response costs for costs incurred by the United States at the National Lacquer and Paint Superfund Site in Chicago, Illinois and penalties and punitive damages for failure to comply with EPA administrative orders related to the Site. The consent decree lodged on November 26, 2012 resolves the complaint by providing for reimbursement of response costs of $325,000.

The publication of this notice opens a period for public comment on the consent decree. Comments should be addressed to the Assistant Attorney General, Environment and Natural Resources Division, and should refer to United States v. Capital Tax Corporation, et al., D.J. Ref. No. 90-11-2-08218. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $4.50 (25 cents per page reproduction cost) payable to the United States Treasury.

Maureen Katz,
Assistant Section Chief, Environmental Enforcement Section, Environment and Natural Resources Division.

[FR Doc. 2012-29056 Filed 11-30-12; 8:45 am]

BILLING CODE 4410-15-P